DEPARTMENT OF THE INTERIOR

National Park Service

[N6464; NPS-WASO-NAGPRA-NPS0040884; PPWOCRADN0-PCU00RP14.R50000]

Notice of Inventory Completion: Florida Department of State, Tallahassee, FL

AGENCY: National Park Service, Interior.

ACTION: Notice.

SUMMARY: In accordance with the Native American Graves Protection and Repatriation Act (NAGPRA), the Florida Department of State (FDOS) has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Tea Kaplan, Florida Department of State, 2100 W Tennessee Street, Tallahassee, FL 32304, email Tea.Kaplan@dos.fl.gov.

SUPPLEMENTARY INFORMATION: This notice is published as part of the National Park Service's administrative responsibilities under NAGPRA. The determinations in this notice are the sole responsibility of the FDOS, and additional information on the determinations in this notice, including the results of consultation, can be found in its inventory or related records. The National Park Service is not responsible for the determinations in this notice.

Abstract of Information Available

Human remains representing, at least, 15 individuals have been identified. The three associated funerary objects are sand temper ceramic sherds. Ancestral remains and objects were collected in six instances from Nassau County, Florida. Remains from Fernandina Plaza Lot were transferred to the Department by Fort Clinch State Park in 1991 and 1994. These Ancestral human remains were likely removed during excavations by R. Bullen and J. Griffin at eh Fernandina Town Plaza in 1951-52. Additional remains from Fort Clinch Beach were removed from the surface of beach erosion exposures by Department staff during an archaeological survey in 1975, and by park visitors and staff, the latter of which were transferred to the Department in 1991. In 1977, the City of Fernandina Beach transferred Ancestral remains to the Department that were exposed by a city construction crew. Lastly, Ancestral remains were transferred to the Department from the C.A. Pound Human Identification Lab in 2006 under 872.05, Florida Statutes. The remains were discovered exposed on Fernandina Beach in 2005.

Cultural Affiliation

Based on the information available and the results of consultation, cultural affiliation is reasonably identified by the geographical location or acquisition history of the human remains and associated funerary objects described in this notice.

Determinations

The FDOS has determined that:

• The human remains described in this notice represent the physical remains of 15 individuals of Native American ancestry.

• The three objects described in this notice are reasonably believed to have been placed intentionally with or near individual human remains at the time of death or later as part of the death rite or ceremony.

• There is a connection between the human remains and associated funerary objects described in this notice and the Alabama-Coushatta Tribe of Texas; Alabama-Quassarte Tribal Town; Coushatta Tribe of Louisiana; Kialegee Tribal Town; Miccosukee Tribe of Indians; Poarch Band of Creek Indians; Seminole Tribe of Florida; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 22, 2025. If competing requests for repatriation are received, the FDOS must determine the most appropriate requestor prior to repatriation. Requests for joint repatriation of the human remains and associated funerary objects are considered a single request and not competing requests. The FDOS is responsible for sending a copy of this notice to the Indian Tribes and Native Hawaiian organizations identified in this notice.

Authority: Native American Graves Protection and Repatriation Act, 25 U.S.C. 3003, and the implementing regulations, 43 CFR 10.10.

Dated: August 13, 2025.
Melanie O'Brien,
Manager, National NAGPRA Program.

[FR Doc. 2025-16121 Filed 8-21-25; 8:45 am]

BILLING CODE 4312-52-P